DEPARTMENT OF THE TREASURY

Coronavirus Relief Fund for States, Tribal Governments, and Certain Eligible Local Governments

AGENCY: Department of the Treasury.

ACTION: Notification.

SUMMARY: This notification announces that information about the Coronavirus Relief Fund for States, Tribal governments, and certain eligible local governments is available on the U.S. Department of the Treasury (Treasury) website, https://home.treasury.gov/policy-issues/cares/state-and-local-governments, including instructions for submitting payment information and the form of certification that certain eligible local governments and Tribal governments must submit in order to receive payments from Treasury.

FOR FURTHER INFORMATION CONTACT: Jackson Miles, Special Assistant, Office of the Chief of Staff, at (202) 875-4703.

SUPPLEMENTARY INFORMATION: On March 27, 2020, the President signed into law the Coronavirus Aid, Relief, and Economic Security Act (CARES Act), Public Law 116-136. Section 601(a)(1) of the Social Security Act as added by section 5001 of the CARES Act provides $150 billion for Treasury to make payments to States (defined to include the District of Columbia, Puerto Rico, the United States Virgin Islands, Guam, the Commonwealth of the Northern Mariana Islands, and American Samoa), Tribal governments, and certain eligible local governments with more than 500,000 residents. Section 601(d) of the Social Security Act, as added by section 5001 of the CARES Act, requires that States, Tribal governments, or units of local government use the funds received to cover only those costs that (1) are necessary expenditures incurred due to the public health emergency with respect to the Coronavirus Disease 2019 (COVID-19); (2) were not accounted for in the budget most recently approved as of March 27, 2020, for the State or government; and (3) were incurred during the period that begins on March 1, 2020, and ends on December 30, 2020. More information is available on https://home.treasury.gov/policy-issues/cares/state-and-local-governments.

Dated: April 13, 2020.
Daniel Kowalski,
Counselor to the Secretary, U.S. Department of the Treasury.

[FR Doc. 2020-08108 Filed 4-16-20; 8:45 am]

BILLING CODE P